DEPARTMENT OF TRANSPORTATION

Federal Aviation Administration

14 CFR Part 39

[Docket No. FAA-2011-1417; Directorate Identifier 2011-NM-159-AD; Amendment 39-17382; AD 2013-05-10]

RIN 2120-AA64

Airworthiness Directives; The Boeing Company Airplanes

AGENCY: Federal Aviation Administration (FAA), DOT.

ACTION: Final rule.

SUMMARY: We are adopting a new airworthiness directive (AD) for certain The Boeing Company Model 777 airplanes. This AD was prompted by reports that escape slides/rafts did not deploy due to galvanic corrosion of the door-mounted slide/raft packboard release mechanisms. This AD requires doing a general visual inspection of the housing assembly of the packboard release mechanism to determine if its surface treatment has been sealed, and if the surface of the housing assembly is unsealed, replacing the housing assembly with a new or serviceable housing assembly. We are issuing this AD to detect and correct corrosion of the packboard release mechanisms, which could interfere with escape slide/raft deployment, prohibit doors from opening in the armed mode, and cause consequent delay and injury during evacuation of passengers and crew from the cabin in the event of an emergency.

DATES: This AD is effective May 3, 2013.

The Director of the Federal Register approved the incorporation by reference of a certain publication listed in the AD as of May 3, 2013.

ADDRESSES: For Boeing service information identified in this AD, contact Boeing Commercial Airplanes, Attention: Data & Services Management, P.O. Box 3707, MC 2H-65, Seattle, WA 98124-2207; telephone 206-544-5000, extension 1; fax 206-766-5680; Internet https://www.myboeingfleet.com. For Air Cruisers service information identified in this AD, contact Air Cruisers Company, 1747 State Route 34, Wall, NJ 07727-3935; telephone: 732-681-3527; fax: 732-681-9163; email: Aircruisers@zodiacaerospace.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Ana Martinez Hueto, Aerospace Engineer, Cabin Safety and Environmental Systems Branch, ANM-150S, FAA, Seattle Aircraft Certification Office (ACO), 1601 Lind Avenue SW., Renton, WA 98057-3356; phone: 425-917-6592; fax: 425-917-6591; email: ana.m.hueto@faa.gov.

SUPPLEMENTARY INFORMATION:

Discussion

We issued a notice of proposed rulemaking (NPRM) to amend 14 CFR part 39 to include an AD that would apply to the specified products. That NPRM published in the Federal Register on January 19, 2012 (77 FR 2666). That NPRM proposed to require doing a general visual inspection of the housing assembly of the packboard release mechanism to determine if its surface treatment has been sealed, and if unsealed, replacing the housing assembly with a new or serviceable housing assembly.

Comments

We gave the public the opportunity to participate in developing this AD. The following presents the comments received on the proposal (77 FR 2666, January 19, 2012), and the FAA's response to each comment. Boeing supported the NPRM. American Airlines stated that it has incorporated the requirements of the NPRM into its maintenance program and will continue to do so. United Airlines (United) did not object to the proposed compliance time.

Request To Allow Verification of Stencil

United requested that we revise the NPRM (77 FR 2666, January 19, 2012) to provide instructions for inspecting for the accomplishment of Air Cruisers Service Bulletin 777 107-25-30, dated September 30, 2010, by verifying the stencil of the “Inspected and/or Mod per S.B. 777 107-25-30” on the girt assembly and upper lacing cover. United also requested that we revise the NPRM to permit operators to demonstrate compliance by means of a technical records review for the accomplishment of Air Cruisers Service Bulletin 777 107-25-30, dated September 30, 2010.

We agree because, if the modification has been accomplished before the issuance of the AD, there is no need to duplicate it. We have revised paragraph (g) of this final rule to specify only slides/rafts that have not been modified using Air Cruisers Service Bulletin 777 107-25-30, dated September 30, 2010, require the replacement of the housing assembly. We also have added a new paragraph (h) to this final rule (and re-identified subsequent paragraphs accordingly) to state that verifying the stencil or a review of technical or maintenance records is acceptable for determining if the modification has been accomplished.

Request To Revise Service Information

Delta Airlines (Delta) requested that we revise the NPRM (77 FR 2666, January 19, 2012) to provide instructions stating how to inspect for discrepant unsealed components. Delta stated that the instructions are referenced within a note in Air Cruisers Service Bulletin 777 107-25-30, dated September 30, 2010. (Boeing Special Attention Service Bulletin 777-25-0507, dated June 30, 2011, references Air Cruisers Service Bulletin 777 107-25-30, dated September 30, 2010, as an additional source of guidance for inspecting and installing a new housing assembly of the door-mounted slide/raft packboard release mechanism.) Delta stated that it is not recommended to have important instructions listed only within a note.

We disagree with the commenter's request to revise the AD to provide inspection instructions. We reference the Air Cruisers Service Bulletin as an additional source of guidance for accomplishing the actions. To delay this AD so manufacturer service information could be revised would be inappropriate, in light of the identified unsafe condition. We have not changed the AD in this regard.

Request To Extend Compliance Time

Delta expressed concern that the 42-month compliance time would be difficult to meet if replacement part kits were not available upon the issuance of the AD. We infer from this comment that Delta is requesting that the 42-month compliance time be extended to allow the part supplier adequate time to make part kits available.

We disagree with the request to extend the compliance time because we have confirmed that the supplier has prepared to have parts available and also to support the compliance time of the AD. If adequate parts are not available as planned approaching the end of the compliance period, paragraph (j) of this AD provides operators the opportunity to request approval of an alternative compliance time if data are presented that prove that the alternative compliance time will provide an acceptable level of safety. We have not changed this AD regarding this issue.

Request To Provide Credit for Previous Actions

United requested that we allow credit for work done prior to the effective date of the AD using Air Cruisers Service Bulletin 777 107-25-30, dated September 30, 2010, since Air Cruisers Service Bulletin 777 107-25-30 is now at Revision 1.

We find that no change is necessary because this AD requires that actions be done in accordance with the Accomplishment Instructions of Boeing Special Attention Service Bulletin 777-25-0507, dated June 30, 2011, which references Air Cruisers Service Bulletin 777 107-25-30, dated September 30, 2010, as an additional source of guidance for inspecting and installing a new housing assembly of the door-mounted slide/raft packboard release mechanism. Boeing has not revised its service bulletin and, therefore, this AD references the original issue of Air Cruisers Service Bulletin 777 107-25-30, dated September 30, 2010. We have not changed this AD in this regard.

Explanation of Change Made to This Final Rule

We have changed Note 1 to paragraph (g) of the NPRM (77 FR 2666, January 19, 2012), which defined a general visual inspection, to new paragraph (i) in the regulatory text of this AD, and re-identified subsequent paragraphs and notes accordingly.

Conclusion

We reviewed the relevant data, considered the comments received, and determined that air safety and the public interest require adopting the AD with the changes described previously—and minor editorial changes. We have determined that these minor changes:

• Are consistent with the intent that was proposed in the NPRM (77 FR 2666, January 19, 2012) for correcting the unsafe condition; and

• Do not add any additional burden upon the public than was already proposed in the NPRM (77 FR 2666, January 19, 2012).

We also determined that these changes will not increase the economic burden on any operator or increase the scope of the AD.

Costs of Compliance

We estimate that this AD affects 161 airplanes of U.S. registry.

We estimate the following costs to comply with this AD:

Estimated Costs
Action | Labor cost | Parts cost | Cost per product | Cost on U.S. operators
Inspection | Between 4 and 16 work-hours × $85 per hour = Between $340 and $1,360 | $0 | Between $340 and $1,360 | Between $54,740 and $218,960.

We estimate the following costs to do any necessary replacements that would be required based on the results of the inspection. We have no way of determining the number of aircraft that might need these replacements:

On-condition Costs
Action | Labor cost | Parts cost | Cost per product
Replacement | 1 work-hour × $85 per hour = $85 | $137 | $222

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-05-10 The Boeing Company: Amendment 39-17382; Docket No. FAA-2011-1417; Directorate Identifier 2011-NM-159-AD.

(a) Effective Date

This AD is effective May 3, 2013.

(b) Affected ADs

None.

(c) Applicability

This AD applies to The Boeing Company Model 777-200, -200LR, -300, -300ER, and 777F series airplanes, certificated in any category, as identified in Boeing Special Attention Service Bulletin 777-25-0507, dated June 30, 2011.

(d) Subject

Joint Aircraft System Component (JASC)/Air Transport Association (ATA) of America Code 25, Equipment/Furnishings.

(e) Unsafe Condition

This AD was prompted by reports that escape slides/rafts did not deploy due to galvanic corrosion of the door-mounted slide/raft packboard release mechanisms. We are issuing this AD to detect and correct corrosion in the packboard release mechanisms, which could interfere with escape slide/raft deployment, prohibit doors from opening in the armed mode, and cause consequent delay and injury during evacuation of passengers and crew from the cabin in the event of an emergency.

(f) Compliance

Comply with this AD within the compliance times specified, unless already done.

(g) Inspection and Replacement

Within 42 months after the effective date of this AD, at the applicable passenger/crew entry doors identified in Boeing Special Attention Service Bulletin 777-25-0507, dated June 30, 2011, that have not been modified as specified in Air Cruisers Service Bulletin 777 107-25-30, dated September 30, 2010 (which is not incorporated by reference in this AD): Do a general visual inspection of the housing assembly of the packboard release mechanism to determine if its surface treatment has been sealed; and if unsealed, before further flight, replace the housing assembly with a new or serviceable housing assembly; in accordance with the Accomplishment Instructions of Boeing Special Attention Service Bulletin 777-25-0507, dated June 30, 2011.

Note 1 to paragraph (g) of this AD: Boeing Special Attention Service Bulletin 777-25-0507, dated June 30, 2011, refers to Air Cruisers Service Bulletin 777 107-25-30, dated September 30, 2010 (which is not incorporated by reference in this AD), as an additional source of guidance for inspecting and installing a new housing assembly of the door-mounted slide/raft packboard release mechanism.

(h) Optional Terminating Action

Verifying the housing assembly has been replaced with a new or serviceable housing assembly by inspecting for a stencil to verify that there is a stencil marked “Inspected and/or Mod per S.B. 777 107-25-30” on the girt assembly and upper lacing cover on the housing assembly of the packboard release mechanism; or by reviewing technical or maintenance records, if it can be conclusively determined that the modification specified in Air Cruisers Service Bulletin 777 107-25-30, dated September 30, 2010, (which is not incorporated by reference in this AD), as specified in Boeing Special Attention Service Bulletin 777-25-0507, dated June 30, 2011, has been accomplished; terminates the requirements of paragraph (g) of this AD.

(i) Definition of a General Visual Inspection

For the purposes of this AD, a general visual inspection is: A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.

(j) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(k) Related Information

(1) For more information about this AD, contact Ana Martinez Hueto, Aerospace Engineer, Cabin Safety and Environmental Systems Branch, ANM-150S, FAA, Seattle Aircraft Certification Office (ACO), 1601 Lind Avenue SW., Renton, WA 98057-3356; phone: 425-917-6592; fax: 425-917-6591; email: ana.m.hueto@faa.gov.

(2) For Air Cruisers service information identified in this AD, contact Air Cruisers Company, 1747 State Route 34, Wall, NJ 07727-3935; telephone: 732 681-3527; fax: 732 681-9163; email: Aircruisers@zodiacaerospace.com. You may review copies of the referenced service information at the FAA, Transport Airplane Directorate, 1601 Lind Avenue SW., Renton, WA. For information on the availability of this material at the FAA, call 425-227-1221.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 777-25-0507, dated June 30, 2011.

(ii) Reserved.

(3) For Boeing service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at FAA, Transport Airplane Directorate, 1601 Lind Avenue SW., Renton, Washington. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 5, 2013.
Ali Bahrami,
Manager, Transport Airplane Directorate, Aircraft Certification Service.

[FR Doc. 2013-05871 Filed 3-28-13; 8:45 am]

BILLING CODE 4910-13-P